DEPARTMENT OF VETERANS AFFAIRS

[OMB Control No. 2900-0156]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 7, 2003.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0156.”

Send comments and recommendations concerning any aspect of the information collection to VA's OMB Desk Officer, OMB Human Resources and Housing Branch, New Executive Office Building, Room 10235, Washington, DC 20503 (202) 395-7316. Please refer to “OMB Control No. 2900-0156” in any correspondence.

SUPPLEMENTARY INFORMATION: Title: Notice of Change in Student Status (Under Chapter 30, 32, or 35, Title 38, U.S.C; Chapter 1606, Title 10. U.S.C. or Section 901 or 903 of Pub. L. 96-342), VA Form 22-1999b.

OMB Control Number: 2900-0156.

Type of Review: Extension of a currently approved collection.

Abstract: VA Form 22-1999b is used by educational institutions to report changes in the enrollment of students in receipt of VA education benefits. The information is used to determine a student's entitlement to educational benefits or whether the benefit should be increased, decreased, or terminated. Without this information, VA might underpay or overpay benefits.

An agency may not conduct or sponsor, and a person is not required to respond to a collection of information unless it displays a currently valid OMB control number. The Federal Register Notice with a 60-day comment period soliciting comments on this collection of information was published on December 3, 2002, at page 72029.

Affected Public: State, Local or Tribal Government, business or other for-profit, and not-for-profit institutions.

Estimated Annual Burden: 24,750 hours.

VA Form 22-1999b—13,750.

VA Form 22-1999b Electronically Filed—11,000.

Estimated Average Burden Per Respondent:

VA Form 22-1999b—5 minutes.

VA Form 22-1999b Electronically Filed—4 minutes.

Frequency of Response: On occasion.

Estimated Number of Respondents: 9,817.

Number of Responses Annually: 330,000.

VA Form 22-1999b—165,000.

VA Form 22-1999b Electronically Filed—165,000.

Dated: February 13, 2003.
By direction of the Secretary.
Ernesto Castro,
Director, Records Management Service.

[FR Doc. 03-5274 Filed 3-5-03; 8:45 am]

BILLING CODE 8320-01-P